DEPARTMENT OF STATE

[Public Notice: 6888]

60-Day Notice of Proposed Information Collection: DS-5501, Electronic Diversity Visa Entry Form, OMB Control Number 1405-0153

Correction

In notice document 2010-1863 appearing on page 4901 in the issue of January 29, 2010, make the following correction:

On page 4901, in the first column, under the DATE(S) heading, in the third line, “March 30, 2010” should read “January 29, 2010”.

[FR Doc. C1-2010-1863 Filed 2-16-10; 8:45 am]

BILLING CODE 1505-01-D